NATIONAL AERONAUTICS AND SPACE ADMINISTRATION

[Notice 13-025]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: April 2, 2013.

FOR FURTHER INFORMATION CONTACT: Robert H. Earp, III, Patent Attorney, Glenn Research Center at Lewis Field, Code 21-14, Cleveland, OH 44135; telephone (216) 433-5754; fax (216) 433-6790.

NASA Case No.: LEW-18889-1: High Speed Idle Engine Control Mode;

NASA Case No.: LEW-18629-1: Electrospray Collection of Lunar Dust;

NASA Case No.: LEW-18565-1: Catalytic Microtube Rocket Igniter;

NASA Case No.: LEW-18605-2: Dual-Mode Hybrid-Engine (DMH-Engine): A Next-Generation Electric Propulsion Thruster;

NASA Case No.: LEW-18919-1: Wireless controlled Chalcogenide Nanoionic Radio Frequency Switch;

NASA Case No.: LEW-18893-1: Novel Aerogel-Based Antennas (ABA) for Aerospace Applications;

NASA Case No.: LEW-18752-1: Large Strain Transparent Magneto-active Polymer Nanocomposites.

Sumara M. Thompson-King,
Deputy General Counsel.

[FR Doc. 2013-07608 Filed 4-1-13; 8:45 am]

BILLING CODE 7510-13-P